DEPARTMENT OF TRANSPORTATION

Federal Aviation Administration

14 CFR Part 39

[Docket No. FAA-2007-28229; Directorate Identifier 2006-SW-23-AD]

RIN 2120-AA64

Airworthiness Directives; Eurocopter France Model EC130 B4 Helicopters

AGENCY: Federal Aviation Administration, DOT.

ACTION: Notice of proposed rulemaking (NPRM).

SUMMARY: This document proposes adopting a new airworthiness directive (AD) for Eurocopter France (Eurocopter) Model EC 130 B4 helicopters, with certain twist grip assemblies installed. This proposal would require inspecting the pilot and co-pilot collective levers for proper bonding between the twist grip drive tubes and the control pinions and if debonding is present, replacing the collective levers before further flight. This proposal is prompted by one incident in which the engine remained at idle speed although the twist grip had been turned to the flight position. The actions specified by this proposed AD are intended to detect debonding between the twist grip drive tubes and the control pinions on the pilot and co-pilot collective levers to prevent loss of cockpit throttle control of the engine, and subsequent loss of control of the helicopter.

DATES: Comments must be received on or before July 20, 2007.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from American Eurocopter Corporation, 2701 Forum Drive, Grand Prairie, Texas 75053-4005, telephone (972) 641-3460, fax (972) 641-3527.

You may examine the comments to this proposed AD in the AD docket on the Internet at http://dms.dot.gov.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION:

Comments Invited

We invite you to submit any written data, views, or arguments regarding this proposed AD. Send your comments to the address listed under the caption ADDRESSES. Include the docket number “FAA-2007-28229, Directorate Identifier 2006-SW-23-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation Nassif Building in Room PL-401 at 400 Seventh Street, SW., Washington, DC. Comments will be available in the AD docket shortly after the DMS receives them.

Discussion

The European Aviation Safety Agency (EASA) notified us that an unsafe condition may exist on Eurocopter Model EC 130 B4 helicopters, with a twist grip assembly, part number (P/N) 350A27520900, 350A27520901, 350A27520902, or 350A27520903, with a serial number below 64, installed on the pilot's side, and a twist grip assembly, P/N 350A27521201, with a serial number below 67, installed on the co-pilot's side. EASA advises that analysis of an incident that occurred during autorotation training revealed a failure of the twist grip drive tube and control pinion bonded attachment. The engine remained at idle rating although the twist grip had been turned back to the flight position. The manufacturer states that the autorotation procedure continued without damage to the helicopter, which landed safely. The failure has been attributed to non-compliant surface preparation during manufacture.

Eurocopter, an EADS Company, has issued Alert Service Bulletin EC130 No. 76A001, dated February 10, 2006, which specifies a check by use of a twist grip adjusting gauge of the bonding between the twist grip drive tube and the control pinion on both the pilot and co-pilot collective levers. If the twist grip twists under a load on the adjusting gauge of 35N, the collective lever must be replaced. EASA classified this service bulletin as mandatory and issued AD No. 2006-0079, dated April 3, 2006, to ensure the continued airworthiness of these helicopters in France.

This helicopter model is manufactured in France and is type certificated for operation in the United States under the provisions of section 21.29 of the Federal Aviation Regulations (14 CFR 21.29) and the applicable bilateral agreement. Under this agreement, EASA has kept the FAA informed of the situation described above. We have examined EASA's findings, evaluated all pertinent information, and determined that AD action is necessary for products of this type design that are certificated for operation in the United States.

This previously described unsafe condition is likely to exist or develop on other helicopters of the same type design registered in the United States. Therefore, the proposed AD would require, within 110 hours time-in-service (TIS) or 4 months, whichever occurs first, or before the installation of a collective lever with an affected twist grip assembly on a helicopter, inspecting the bonding between the twist grip drive tube and the control pinion on both the pilot and co-pilot collective levers. If debonding is present, replacing the collective lever with an airworthy collective lever that has been inspected in accordance with paragraph (a) of this proposed AD, or a collective lever with a twist grip assembly that is not listed in the Applicability of this proposed AD is required before further flight. The actions would be required to be accomplished by following the specified portions of the alert service bulletin described previously.

We estimate that this proposed AD would affect 73 helicopters of U.S. registry. The debonding inspection would take approximately 0.25 work hour per helicopter and replacing a collective lever would take approximately 2 work hours, at an average labor rate of $80 per work hour. If replacement is necessary, required parts would cost approximately:

• $8,651 for a co-pilot twist grip assembly, P/N 350A27521201;

• $12,542 for a pilot twist grip assembly, P/N 350A27520903;

• $5 for a clamp, P/N ASNA0021;

• $2 for a bolt, P/N 22125BC050014L; and

• $1 for a nut, P/N 22431BC050L.

Based on these figures, we estimate the total cost impact of the proposed AD on U.S. operators to be $10,271, assuming one co-pilot twist grip assembly is replaced in one helicopter, that the twist grip adjusting gage (tool) and spring scale needed are on-site and available, that the co-pilot twist grip assembly is not covered by warranty, and no pilot twist grip assembly will need to be replaced. The manufacturer has indicated that parts are covered by warranty up to 1,000 hours or 2 years after the purchase of a new helicopter, however it was indicated that labor is not covered by a warranty.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. FAA-2007-28229; Directorate Identifier 2006-SW-23-AD.

Applicability: Model EC130 B4 helicopters, with a twist grip assembly, part number (P/N) 350A27520900, 350A27520901, 350A27520902, or 350A27520903, with a serial number below 64, installed on the pilot's side, and a twist grip assembly, P/N 350A27521201, with a serial number below 67, installed on the co-pilot's side, certificated in any category.

Compliance: Required within 110 hours time-in-service (TIS) or 4 months, whichever occurs first, and before installing a replacement collective lever with an affected twist grip assembly, unless accomplished previously.

To detect a reduced bonding strength of the control pinion on the pilot and co-pilot collective lever drive tubes, which could lead to failure of a twist grip drive tube and control pinion bonded attachment, resulting in loss of engine throttle control and subsequent loss of control of the helicopter, accomplish the following:

(a) Inspect the pilot and co-pilot collective levers for proper bonding between the twist grip drive tubes and the control pinions in accordance with paragraphs 2.B.1. and 2.B.2. of the Accomplishment Instructions, in Eurocopter, an EADS Company, Alert Service Bulletin EC130 No. 76A001, dated February 10, 2006, except you are neither required to contact the manufacturer nor return a non-compliant collective lever.

(b) If a twist grip turns when applying the 35N load to the twist grip, before further flight, replace the collective lever with an airworthy collective lever that has been inspected in accordance with paragraph (a) of this AD, or a collective lever with a twist grip assembly that is not listed in the Applicability of this AD.

(c) To request a different method of compliance or a different compliance time for this AD, follow the procedures in 14 CFR 39.19. Contact the Manager, Safety Management Group, FAA, ATTN: Ed Cuevas, Aviation Safety Engineer, FAA, Rotorcraft Directorate, Safety Management Group, Fort Worth, Texas 76193-0111, telephone (817) 222-5355, fax (817) 222-5961, for information about previously approved alternative methods of compliance.

Note: The subject of this AD is addressed in EASA (France) AD 2006-0079, dated April 3, 2006.

Issued in Fort Worth, Texas, on May 7, 2007.
David A. Downey,
Manager, Rotorcraft Directorate, Aircraft Certification Service.

[FR Doc. E7-9708 Filed 5-18-07; 8:45 am]

BILLING CODE 4910-13-P